DEPARTMENT OF TRANSPORTATION

Surface Transportation Board

[STB Docket No. AB-33 (Sub-No. 153X)]

Union Pacific Railroad Company—Abandonment Exemption—in Monroe County, IA

On May 15, 2000, Union Pacific Railroad Company (UP), filed with the Surface Transportation Board (Board) a petition under 49 U.S.C. 10502 for exemption from the provisions of 49 U.S.C. 10903-10905 to abandon a line of railroad known as the Oskaloosa Subdivision, extending between milepost 312.1 near Eddyville and milepost 322.9 near Maxon, a distance of 10.8 miles in Monroe County, IA. The line traverses U.S. Postal Service Zip Codes 52531 and 52553, and includes the non-agency stations of Bridgeport (milepost 313) and Maxon (milepost 322.9).

In addition to an exemption from 49 U.S.C. 10903, petitioner seeks exemption from 49 U.S.C. 10904 (offer of financial assistance procedures) and 49 U.S.C. 10905 (public use conditions). In support, UP contends that exemption from these provisions is necessary to permit its conveyance to the sole shipper on the line, Cargill, Inc. (Cargill), of a segment of the line between mileposts 312.1 and 315 for construction of a plant switching facility. The switching operation is necessary for construction by Cargill of a private rail line that will run south from the plant to The Burlington Northern and Santa Fe Railway Company's main line. UP also requests expedited consideration of the exemption petition, including effectiveness of the exemption on service of the final decision. UP avers that expedited action is necessary here because Cargill urgently needs the right-of-way. These requests will be addressed in the final decision.

The line does not contain federally granted rights-of-way. Any documentation in UP's possession will be made available promptly to those requesting it.

The interest of railroad employees will be protected by the conditions set forth in Oregon Short Line R. Co.—Abandonment—Goshen, 360 I.C.C. 91 (1979).

By issuance of this notice, the Board is instituting an exemption proceeding pursuant to 49 U.S.C. 10502(b). A final decision will be issued by September 1, 2000.

Any offer of financial assistance (OFA) under 49 CFR 1152.27(b)(2) will be due no later than 10 days after service of a decision granting the petition for exemption. Each offer must be accompanied by a $1,000 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than June 22, 2000. Each trail use request must be accompanied by a $150 filing fee. See 49 CFR 1002.2(f)(27).

All filings in response to this notice must refer to STB Docket No. AB-33 (Sub-No. 153X) and must be sent to: (1) Surface Transportation Board, Office of the Secretary, Case Control Unit, 1925 K Street, NW, Washington, DC 20423-0001, and (2) James P. Gatlin, 1416 Dodge Street, Room 830, Omaha, NE 68179-0830. Replies to the UP petition are due on or before June 22, 2000.

Persons seeking further information concerning abandonment procedures may contact the Board's Office of Public Services at (202) 565-1592 or refer to the full abandonment or discontinuance regulations at 49 CFR part 1152. Questions concerning environmental issues may be directed to the Board's Section of Environmental Analysis (SEA) at (202) 565-1545. [TDD for the hearing impaired is available at 1-800-877-8339.]

An environmental assessment (EA) (or environmental impact statement (EIS), if necessary) prepared by SEA will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on our website at “WWW.STB.DOT.GOV.”

Decided: May 25, 2000.
By the Board, David M. Konschnik, Director, Office of Proceedings.
Vernon A. Williams,
Secretary.

[FR Doc. 00-13856 Filed 6-1-00; 8:45 am]

BILLING CODE 4915-00-P